DEPARTMENT OF COMMERCE

National Oceanic and Atmospheric Administration

Science Advisory Board (SAB); Notice of Open Meeting

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Monday, April 24, 2017 from 9:45 a.m. EDT to 5:45 p.m. EDT and on Tuesday, April 25, 2017 from 9:00 a.m. EDT to 12:00 p.m. EDT. These times and the agenda topics described below are subject to change. Please refer to the Web page www.sab.noaa.gov/SABMeetings.aspx for the most up-to-date meeting times and agenda.

Place: The meeting will be held at The DoubleTree by Hilton, 8727 Colesville Road, Silver Spring, MD, 20910.

Status: The meeting will be open to public participation with a 15-minute public comment period on April 25th from 10:45-11:00 a.m. EDT (check Web site to confirm time). The SAB expects that public statements presented at its meetings will not be repetitive of previously submitted verbal or written statements. In general, each individual or group making a verbal presentation will be limited to a total time of two (2) minutes. Individuals or groups planning to make a verbal presentation should contact the SAB Executive Director by April 17, 2017 to schedule their presentation. Written comments should be received in the SAB Executive Director's Office by April 17, 2017, to provide sufficient time for SAB review. Written comments received by the SAB Executive Director after April 17, 2017, will be distributed to the SAB, but may not be reviewed prior to the meeting date. Seating at the meeting will be available on a first-come, first-served basis.

Special Accommodations: These meetings are physically accessible to people with disabilities. Requests for special accommodations may be directed no later than 12:00 p.m. on April 17, 2017, to Dr. Cynthia Decker, SAB Executive Director, SSMC3, Room 11230, 1315 East-West Highway, Silver Spring, MC 20910; Email: Cynthia.Decker@noaa.gov.

Matters to be Considered: The meeting will include the following topics: (1) Draft Report on Indigenous and Local Ecological Knowledge and NOAA; (2) Proposal for Creation of a High Performance Computing Standing Working Group; (3) Discussion of the Process to Review SAB Standing Working Groups; (4) Discussion of Short-Term Topics for the SAB; (5) Discussion on SAB Transition Materials; and (6) Updates from the Acting NOAA Administrator and Acting Chief Scientist.

FOR FURTHER INFORMATION CONTACT: Dr. Cynthia Decker, Executive Director, Science Advisory Board, NOAA, Room 11230, 1315 East-West Highway, Silver Spring, MD 20910. Email: Cynthia.Decker@noaa.gov; or visit the NOAA SAB Web site at http://www.sab.noaa.gov.

Dated: March 31, 2017.
Paul Johnson,
Acting Deputy Chief Financial Officer/CAO, Office of Oceanic and Atmospheric Research, National Oceanic and Atmospheric Administration.

[FR Doc. 2017-06858 Filed 4-5-17; 8:45 am]

BILLING CODE 3510-KD-P